DEPARTMENT OF LABOR

Employment and Training Administration

Workforce Innovation and Opportunity Act; Native American Employment and Training Council

AGENCY: Employment and Training Administration, U. S. Department of Labor. ACTION: Notice of meeting.

SUMMARY: Pursuant to Section 10 (a)(2) of the Federal Advisory Committee Act (FACA), as amended, and Section 166 (i)(4) of the Workforce Innovation and Opportunity Act (WIOA), notice is hereby given of the next meeting of the Native American Employment and Training Council (Council), as constituted under WIOA.

DATES: The meeting will begin at 9:00 a.m. (Eastern Daylight Time) on Wednesday, June 22, 2022 and continue until 4:30 p.m. The meeting will reconvene at 9:00 a.m. on Thursday, June 23, 2022 and adjourn at 4:30 p.m. The period from 3:00 p.m., to 4:00 p.m. on June 23, 2022 is reserved for participation and comment by members of the public.

ADDRESSES: The meeting will be held in person at the U.S. Department of Labor Frances Perkins Building, Room C-5525, 200 Constitution Avenue, NW, Washington, DC 20210. The meeting will also be accessible virtually on the Zoom.gov platform. To join the meeting use the following: https://www.zoomgov.com/j/1607244786?pwd=bVo2ZG5peEx5bm5hK1hPUXdERmsvZz09

Meeting ID: 160 724 4786

Passcode: 195989

FOR FURTHER INFORMATION CONTACT: Athena R. Brown, DFO, Division of Indian and Native American Programs, Employment and Training Administration, U.S. Department of Labor, Room C-4311, 200 Constitution Avenue NW, Washington, DC 20210. Telephone number (202) 693-3737 (VOICE) (this is not a toll-free number).

SUPPLEMENTARY INFORMATION: Council members and members of the public are encouraged to logon to Zoom.gov early to allow for connection issues and troubleshooting.

Security Instructions: Meeting participants should use the visitors' entrance to access the Frances Perkins Building, one block north of Constitution Avenue at 3rd and C Streets NW. For security purposes, meeting participants must:

1. Present a valid photo ID to receive a visitor badge.

2. Know the name of the event being attended: The meeting event is the Native American Employment and Training Council (NAETC).

Visitor badges are issued by the security officer at the visitor entrance located at 3rd and C Streets NW after the visitor proceeds through the security screening. When receiving a visitor badge, the security officer will retain the visitor's photo ID until the visitor badge is returned to the security desk. Laptops and other electronic devices may be inspected and logged for identification purposes. Due to limited parking options, DC Metro's Judiciary Square station is the easiest way to access the Frances Perkins Building.

The meeting will be open to the public.

Members of the public not present may submit a written statement by Friday, June 17, 2022, to be included in the record of the meeting. Statements are to be submitted to Athena R. Brown, Designated Federal Officer (DFO), and U.S. Department of Labor at brown.athena@dol.gov. Persons who need special accommodations should contact Suzie Casal at (202) 309-8589 or casal.suzie@dol.gov, at least two business days before the meeting. The formal agenda will focus on the following topics: (1) WIOA Reauthorization and NAETC recommendations and discussion, (2) Training and Technical assistance updates and priorities, (3) NAETC Two-Year Strategic Plan update; (4) 477 update from federal partners meeting; (5) Upcoming regional/national technical assistance conferences; 6) ETA/DINAP updates; and (7) public comment.

Angela Hanks,
Acting Assistant Secretary for Employment and Training, Labor.

[FR Doc. 2022-11226 Filed 5-24-22; 8:45 am]

BILLING CODE 4510-FR-P